SECURITIES AND EXCHANGE COMMISSION

[Release No. 34-49417A; File No. SR-PCX-2004-07]

Self-Regulatory Organizations; Notice of Filing and Immediate Effectiveness of Proposed Rule Change by the Pacific Exchange, Inc. To Amend PCX Rule 1.26 To Clarify and Update Its Registration Rule for Employees of Member Organizations; Correction

March 23, 2004.

In FR document No. 04-6452 beginning on page 13610 in the issue of Tuesday, March 23, 2004, the first sentence incorrectly describes the proposed rule change as having been filed by the Pacific Exchange, Inc. (“PCX”) through its subsidiary PCX Equities, Inc. The proposed rule change was filed only by the PCX.

For the Commission, by the Division of Market Regulation, pursuant to delegated authority.¹
¹ 17 CFR 200.30-3(a)(12).
Margaret H. McFarland,
Deputy Secretary.

[FR Doc. 04-6919 Filed 3-26-04; 8:45 am]

BILLING CODE 8010-01-P